DEPARTMENT OF HOUSING AND URBAN DEVELOPMENT

[Docket No. FR-6556-N-02]

Request for Information on the Uses of Survey of Market Absorption of New Multifamily Apartments (SOMA) Data; Extension of Comment Period

AGENCY: Office of the Assistant Secretary for Policy Development and Research, Department of Housing and Urban Development (HUD).

ACTION: Extension of comment period for request for information.

SUMMARY: On September 9, 2025, the Department of Housing and Urban Development (HUD) published in the Federal Register a document titled, “Request for Information on the Uses of Survey of Market Absorption (SOMA) Data.” (RFI) HUD is evaluating current needs for data from the Survey of Market Absorption of New Multifamily Units (SOMA). As part of this evaluation, HUD is soliciting information from the public on uses of SOMA data and other comments or concerns about the SOMA.

DATES: The comment period for the request for comment published on September 9, 2025, at 90 FR 43468, is extended to January 30, 2026. Late-filed comments will be considered to the extent practicable.

ADDRESSES: Interested persons are invited to submit comments responsive to the Request for Information as well as any other concerns about the SOMA.

1. Electronic Submission of Comments. Interested persons may submit comments electronically through the Federal eRulemaking Portal at http://www.regulations.gov.

2. Submission of Comments by Mail.

Comments may be submitted by mail to the Regulations Division, Office of General Counsel, Department of Housing and Urban Development, 451 7th Street SW, Room 10276, Washington, DC 20410-0500.

FOR FURTHER INFORMATION CONTACT: George Carter, Director, Housing and Demographic Analysis Division, Office of Policy Development and Research, 451 7th Street SW, Room 8222, Washington, DC 20410-0500, telephone number 202-402-5873 (this is not a toll-free number). HUD welcomes and is prepared to receive calls from individuals who are deaf or hard of hearing, as well as individuals with speech and communication disabilities. To learn more about how to make an accessible telephone call, please visit: https://www.fcc.gov/consumers/guides/telecommunications-relay-service-trs.

SUPPLEMENTARY INFORMATION: The purpose of the Survey of Market Absorption of New Multifamily Units (SOMA) is to provide data on the rate at which different types of new rental apartments and new condominiums/cooperative apartments are absorbed, that is, taken off the market, usually by being rented or sold, over the course of the first twelve months following completion of a building. The SOMA uses the Survey of Construction (SOC) as its sampling base. It provides data on the time between completion and rental or sale of new multifamily units and data on rents, sales prices, and size of apartments rented or sold. It is an indicator of how multifamily construction responds to consumer demand. SOMA data, tables, and documentation can be found here: https://www.census.gov/programs-surveys/soma.html.

In furtherance of its efforts to evaluate current needs for data from the SOMA, HUD published in the Federal Register a document titled “Request for Information on the Uses of Survey of Market Absorption (SOMA) Data”. The request for information solicits comment input to improve HUD's understanding of how SOMA data is used and better understand concerns about the SOMA. While the request for information originally provided for a 30-day comment period, HUD has determined that extending the public comment period by an additional 45 days will better allow the public to submit comments that will help HUD gather information necessary for its evaluation of data needs from the SOMA. Thus, HUD is extending the date for public comment until January 30, 2026.

John Gibbs,
Principal Deputy Assistant Secretary for Policy Development and Research.

[FR Doc. 2025-22959 Filed 12-15-25; 8:45 am]

BILLING CODE 4210-67-P